ENVIRONMENTAL PROTECTION AGENCY

[EPA-HQ-OECA-2014-0034; FRL-10013-10-OMS]

Information Collection Request Submitted to OMB for Review and Approval; Comment Request; NSPS for Kraft Pulp Mill Affected Sources for Which Construction, Reconstruction, or Modification Commenced After May 23, 2013 (Renewal)

AGENCY: Environmental Protection Agency (EPA).

ACTION: Notice.

SUMMARY: The Environmental Protection Agency (EPA) has submitted an information collection request (ICR), NSPS for Kraft Pulp Mill Affected Sources for which Construction, Reconstruction, or Modification Commenced After May 23, 2013 (EPA ICR Number 2485.04, OMB Control Number 2060-0690), to the Office of Management and Budget (OMB) for review and approval in accordance with the Paperwork Reduction Act. This is a proposed extension of the ICR, which is currently approved through September 30, 2020. Public comments were previously requested, via the Federal Register, on May 6, 2019 during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before August 31, 2020.

ADDRESSES: Submit your comments, referencing Docket ID Number EPA-HQ-OECA-2014-0034, to: (1) EPA online using www.regulations.gov (our preferred method), or by email to docket.oeca@epa.gov, or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Kraft Pulp Mill Affected Sources for Which Construction, Reconstruction, or Modification Commenced After May 23, 2013 (40 CFR part 60, subpart BBa) were proposed on May 23, 2013, and promulgated on April 4, 2014. These regulations apply to emissions of particulate matter (PM) and total reduced sulfur (TRS) at recovery furnaces, smelt dissolving tanks (SDTs), lime kilns, digester systems, brown stock washer (BSW) systems, multiple effect evaporator systems and condensate stripper systems at kraft pulp mills that commenced construction, modification or reconstruction after May 23, 2013. At pulp mills, where kraft pulping is combined with neutral sulfite semi-chemical pulping, the provisions of this subpart are applicable when any portion of the material charged to an affected source is produced by the kraft pulping operation. This subpart includes provisions specifying that sources complying with the TRS standard for digester systems, BSW systems, evaporator systems and condensate stripper systems by venting to a control device must collect the gases in a closed-vent system subject to the provisions of 40 CFR part 63, subpart S. Facilities may be exempt from the TRS standard in the NSPS if the facility can demonstrate that TRS emissions from a brown stock washer cannot feasibly be controlled either technically or economically. New facilities include those that commenced construction, modification or reconstruction after the date of proposal. This information is being collected to assure compliance with 40 CFR part 60, subpart BBa.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Kraft pulp mills.

Respondent's obligation to respond: Mandatory (40 CFR part 60, subpart BBa).

Estimated number of respondents: 14 (total).

Frequency of response: Initially, occasionally, and semiannually.

Total estimated burden: 5,250 hours (per year). Burden is defined at 5 CFR 1320.3(b).

Total estimated cost: $1,580,000 (per year), which includes $976,000 in annualized capital/startup and/or operation & maintenance costs.

Changes in the Estimates: There is an adjustment increase in the total estimated burden as currently identified in the OMB Inventory of Approved Burdens. This increase is not due to any program changes or changes in regulatory requirements. The change in the burden and cost estimates is due primarily to an increase in the number of new or modified sources. The number of sources subject to the regulation has increased in the past three years, based on the continued assumption that an average of two existing mills (previously subject to 40 CFR part 60, subpart BB) per year will replace aging emission units with new emission units subject to Subpart BBa. This has led to an increase in O&M costs.

Courtney Kerwin,
Director, Regulatory Support Division.

[FR Doc. 2020-16580 Filed 7-30-20; 8:45 am]

BILLING CODE 6560-50-P